DEPARTMENT OF TRANSPORTATION

Federal Aviation Administration

Notice of Intent to Rule on Application To Impose and Use the Revenue From a Passenger Facility Charge (PFC) at Duluth International Airport, Duluth, MN

AGENCY: Federal Aviation Administration (FAA), DOT.

ACTION: Notice of Intent to rule on application.

SUMMARY: The FAA proposes to rule and invites public comment on the application to impose and use the revenue from a PFC at Duluth International Airport under the provisions of the Aviation Safety and Capacity Expansion Act of 1990 (Title IX of the Omnibus Budget Reconciliation Act of 1990) (Pub. L. 101-508) and part 158 of the Federal Aviation Regulations (14 CFR part 158).

DATES: Comments must be received on or before October 13, 2000.

ADDRESSES: Comments on this application may be mailed or delivered in triplicate to the FAA at the following address: Federal Aviation Administration, Minneapolis Airports District Office, 6020 28th Avenue South, Room 102, Minneapolis, Minnesota 55450-2706.

In addition, one copy of any comments submitted to the FAA must be mailed or delivered to Mr. Raymond Klosowski, Executive Director, Duluth Airport Authority, at the following address: Duluth Airport Authority, Duluth International Airport, 4701 Grinden Drive, Duluth, MN 55811.

Air carriers and foreign air carriers may submit copies of written comments previously provided to the Duluth Airport Authority under § 158.23 of part 158.

FOR FURTHER INFORMATION CONTACT: Mr. Gordon Nelson, Program Manager, Federal Aviation Administration, Airports District Office, 6020 28th Avenue South, Room 102, Minneapolis, Minnesota 55450-2706, telephone (612) 713-4358. The application may be reviewed in person at this same location.

SUPPLEMENTARY INFORMATION: The FAA proposes to rule and invites public comment on the application to impose and use the revenue from a PFC at Duluth International Airport under the provisions of the Aviation Safety and Capacity Expansion Act of 1990 (Title IX of the Omnibus Budget Reconciliation Act of 1990) (Pub. L. 101-508) and Part 158 of the Federal Aviation Regulations (14 CFR Part 158).

On August 16, 2000, the FAA determined that the application to impose and use the revenue from a PFC submitted by the Duluth Airport Authority was substantially complete within the requirements of § 158.25 of Part 158. The FAA will approve or disapprove the application, in whole or in part, no later than November 14, 2000.

The following is a brief overview of the application.

PFC application number: 00-04-C-00-DLH.

Level of the Proposed PFC: $3.00.

Proposed charge effective date: December 1, 2000.

Proposed charge expiration date: February 1, 2003.

Total estimated PFC revenue: $628,931.00.

Brief description of proposed projects: Acquire snow blower, acquire runway sander (snow removal equipment), security upgrade, design and phase I construction for runway 9-27 centerline and touchdown zone lighting, design for CAT II Instrument Landing System, install centerline and touchdown zone lighting, and PFC consultant fees. Class or classes of air carriers which the public agency has requested not be required to collect PFCs: non-scheduled Part 135 Air Taxi/Commercial Operators (ATCO).

Any person may inspect the application in person at the FAA Office listed above under FOR FURTHER INFORMATION CONTACT.

In addition, any person may, upon request, inspect the application, notice and other documents germane to the application in person at the Duluth Airport Authority Office.

Issued in Des Plaines, Illinois, on August 23, 2000.
Benito De Leon,
Manager, Airports Planning/Programming Branch, Great Lakes Region.

[FR Doc. 00-23497 Filed 9-12-00; 8:45 am]

BILLING CODE 4910-13-M